DEPARTMENT OF LABOR

Employment and Training Administration

[TA-W-65,189]

Fairfield Chair Company Plant 2 Lenoir, NC; Notice of Termination of Investigation

Pursuant to Section 221 of the Trade Act of 1974, as amended, an investigation was initiated on February 10, 2009 in response to a worker petition filed by workers of Fairfield Chair Company, Plant 2, Lenoir, North Carolina.

The petitioner has requested that the petition be withdrawn. Consequently, the investigation has been terminated.

Signed at Washington, DC, this 27th day of March 2009.
Elliott S. Kushner,
Certifying Officer, Division of Trade Adjustment Assistance.

[FR Doc. E9-8917 Filed 4-17-09; 8:45 am]

BILLING CODE 4510-FN-P